NUCLEAR REGULATORY COMMISSION

[NRC-2016-0132]

Information Collection: NRC Form 314, Certificate of Disposition of Materials

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, NRC Form 314, “Certificate of Disposition of Materials.” The NRC Form 314 is submitted by a materials licensee who wishes to terminate its license. The form provides information needed by the NRC to determine whether the licensee has radioactive materials on hand which must be transferred or otherwise disposed of prior to expiration or termination of the license.

DATES: Submit comments by January 23, 2017.

ADDRESSES: Submit comments directly to the OMB reviewer at: Vlad Dorjets, Desk Officer, Office of Information and Regulatory Affairs (Docket ID NRC-2016-0132), NEOB-10202, Office of Management and Budget, Washington, DC 20503; telephone: 202-395-7315, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID Docket ID NRC-2016-0132 when contacting the NRC about the availability of information for this action. You may obtain publicly-available information related to this action by any of the following methods:

• Federal rulemaking Web site: Go to http://www.regulations.gov and search for Docket ID Docket ID NRC-2016-0132.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of Information and related instructions may be obtained without charge by accessing ADAMS Accession No. ML16292A666. The supporting statement is available in ADAMS under Accession No. ML16292A668.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “NRC Form 314, Certification of Disposition of Material.” The NRC hereby informs potential respondents that an agency may not conduct or sponsor, and that a person is not required to respond to, a collection of information unless it displays a currently valid OMB control number.

The NRC published a Federal Register notice with a 60-day comment period on this information collection on July 19, 2016 (81 FR 46972).

1. The title of the information collection: NRC Form 314 Certification of Disposition of Material.

2. OMB approval number: 3150-0028.

3. Type of submission: Extension.

4. The form number if applicable: NRC Form 314.

5. How often the collection is required or requested: NRC Form 314 is submitted by materials licensee who wishes to terminate its license. The form provides information needed by the NRC to determine whether the licensee has radioactive materials on hand which must be transferred or otherwise disposed of prior to expiration or termination of the license.

6. Who will be required or asked to respond: Respondents are firms, institutions, and individual holding NRC licenses to possess and use radioactive materials who do not wish who do not wish to renew those licenses.

7. The estimated number of annual responses: 136 responses.

8. The estimated number of annual respondents: 136 respondents.

9. An estimate of the total number of hours needed annually to comply with the information collection requirement or request: Each form requires, on average, approximately 0.5 hours to prepare. 136 × 0.5 hour = a total annual burden for all respondents of 68 hours.

10. Abstract: The NRC Form 314 furnishes information to the NRC regarding transfer or other disposition of radioactive material by licensees who wish to terminate their licenses. The information is used by the NRC as part of the basis for its determination that the facility has been cleared of radioactive material before the facility is released for unrestricted use.

Dated at Rockville, Maryland, this 19th day of December 2016.
For the Nuclear Regulatory Commission.
David Cullison,
NRC Clearance Officer, Office of the Chief Information Officer.

[FR Doc. 2016-30909 Filed 12-22-16; 8:45 am]

BILLING CODE 7590-01-P